Proclamation 10463 of September 30, 2022

National Youth Substance Use Prevention Month, 2022

By the President of the United States of America

A Proclamation

During National Youth Substance Use Prevention Month, we rededicate ourselves to transforming the lives of America's youth through prevention. We commit to building and supporting communities where young Americans can live healthy and fulfilling lives, free from the dangers of substance use, laying the groundwork for strong future generations.

Our country has been battered by twin crises in recent years: an overdose epidemic and COVID-19. Last year, a record 107,000 Americans died of drug overdoses, ripping a hole in families across every community in the Nation. More than a thousand of those who died were teenagers—sons, daughters, sisters, brothers, and friends who still had their whole lives ahead of them. We cannot let that continue. My Administration is drawing on evidence-based strategies to prevent substance use and to intervene early so we can help keep America's young people healthy and safe. We are supporting programs that teach young people about the risks of drug and alcohol use—including the dangers of illicit fentanyl and counterfeit pills—and about the life-saving power of naloxone.

Preventing substance use during adolescence has been shown to significantly reduce the chance of developing a substance use disorder later in life. For every dollar we spend today on effective school-based prevention programs, we save $18 in the future by avoiding potential medical costs and boosting productivity on the job. Prevention programs also make young people less likely to one day have children who use substances, highlighting the far-reaching value these efforts have across generations.

Americans can all agree that this work is critical—irrespective of their political party affiliation. That is why I made beating the opioid epidemic—our Nation's most deadly drug use crisis—a pillar of the bipartisan Unity Agenda that I unveiled in this year's State of the Union. I know that together, with resources and smart policy, we can overcome it. Last year, we invested nearly $4 billion in American Rescue Plan funds to expand mental health and substance use services and to help school districts increase the number of social workers on staff by as much as 54 percent. My Fiscal Year 2023 budget proposes $3.1 billion in National Drug Control funding for prevention, nearly $850 million more than last year. We have already provided more than $120 billion for quality tutoring, mental health, and afterschool programs. We are supporting Drug-Free Communities coalitions in all 50 States, giving local communities the tools and resources to address their own youth substance use issues in ways that are culturally appropriate. We are working to ensure that States leverage Medicaid funding to support schools providing mental health and substance use care to our youth. We are also working to ensure full parity between physical and mental health care so all Americans have access to quality, affordable care, including for substance use.

This month, I call on everyone—parents, siblings, friends, neighbors, teachers, community members, and more—to reach out to the young people in their lives to share information, promote healthy lifestyles, and help transform lives through evidence-based substance use prevention. We thank every individual and every organization working on the front lines to prevent youth substance use. And we renew our commitment to building a healthier and more supportive Nation where all young people can reach their full potential and achieve their dreams. I will never quit fighting to get everyone the support and resources needed to beat this crisis. No one is ever alone.

NOW, THEREFORE, I, JOSEPH R. BIDEN JR., President of the United States of America, by virtue of the authority vested in me by the Constitution and the laws of the United States, do hereby proclaim October 2022 as National Youth Substance Use Prevention Month. Let us all take action to implement practice and evidence-based prevention strategies and improve the health of our Nation.

IN WITNESS WHEREOF, I have hereunto set my hand this thirtieth day of September, in the year of our Lord two thousand twenty-two, and of the Independence of the United States of America the two hundred and forty-seventh.

[FR Doc. 2022-21788

Filed 10-4-22; 8:45 am]

Billing code 3395-F3-P